DEPARTMENT OF DEFENSE

Department of the Army; Corps of Engineers

Extension of the Public Comment Period for the Draft Environmental Impact Statement for the Moffat Collection System Project, City and County of Denver, Adams County, Boulder County, Jefferson County, and Grand County, CO

AGENCY: Department of the Army, U.S. Army Corps of Engineers, DoD.

ACTION: Notice.

SUMMARY: The U.S. Army Corps of Engineers (Corps) Omaha District is announcing a 16-day extension of the public comment period for the Moffat Collection System Project (Moffat Project) Draft Environmental Impact Statement (Draft EIS). The originally announced comment period ends on March 1, 2010, but has been extended until March 17, 2010. The original Notice of Availability of the Draft EIS was published in the Federal Register on Friday, October 30, 2009 (74 FR 56186) and included an initial 90-day comment period (October 30, 2009 to January 27, 2010). A second Notice of Availability announcing an extension of 32 days (January 27, 2010 to March 1, 2010) was issued on December 18, 2009 (74 FR 67180).

DATES: Comments on the Draft EIS should be postmarked no later than March 17, 2010.

ADDRESSES: Written comments on the Draft EIS should be sent to the attention of: Scott Franklin, Moffat EIS Project Manager, U.S. Army Corps of Engineers, Omaha District—Denver Regulatory Office, 9307 South Wadsworth Boulevard, Littleton, CO 80128; via Fax at 303-979-0602; or via e-mail at moffat.eis@usace.army.mil.

SUPPLEMENTARY INFORMATION: None.

Timothy T. Carey,
Chief, Denver Regulatory Office.

[FR Doc. 2010-3338 Filed 2-19-10; 8:45 am]

BILLING CODE 3720-58-P